DEPARTMENT OF HEALTH AND HUMAN SERVICES

Centers for Disease Control and Prevention

[60Day-13-0916]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Core Violence and Injury Prevention Program (Core VIPP)—Revision—(0920-0916, Expiration 1/13/2014)—National Center for Injury Prevention and Control (NCIPC), Centers for Disease Control and Prevention (CDC).

Background and Brief Description

Injuries and their consequences, including unintentional and violence-related injuries, are the leading cause of death for the first four decades of life, regardless of gender, race, or socioeconomic status. More than 179,000 individuals in the United States die each year as a result of unintentional injuries and violence, more than 29 million others suffer non-fatal injuries and over one-third of all emergency department (ED) visits each year are due to injuries. In 2000, injuries and violence ultimately cost the United States $406 billion, with over $80 billion in medical costs and the remainder lost in productivity. Most events that result in injury and/or death from injury could be prevented if evidence-based public health strategies, practices, and policies were used throughout the nation.

CDC's National Center for Injury Prevention and Control (NCIPC) is committed to working with their partners to promote action that reduces injuries, violence, and disabilities by providing leadership in identifying priorities, promoting tools, and monitoring effectiveness of injury and violence prevention and to promote effective strategies for the prevention of injury and violence, and their consequences. One tool NCIPC will use to accomplish this is the Core Violence and Injury Prevention Program (Core VIPP). This program funds state health departments (SHDs) to build their capacity to disseminate, implement, and evaluate evidence-based/best practice programs and policies. Although some states were funded previously through similar CDC-funded programs, this evaluation will only consider the implementation and outcomes of Core VIPP during the five-year funding period from August 2011 to July 2016. The program includes one Basic Integration Component (BIC) and four expanded components: Regional Network Leader (RNLs), Surveillance Quality Improvement (SQI), Motor Vehicle Child Injury Prevention Policy (MVP), and Multi-component Interventions in Multiple Setting to Prevent Falls in Older Adults (Falls). This Core VIPP evaluation only includes the BIC, RNL, SQI, and MVP components. The Falls' program is being evaluated separately by the Division of Unintentional Injury (NCIPC/DUIP).

BIC and the expanded components are intended to support funded states in building capacity and achieving health impact in their states. The key components of violence and injury prevention (VIP) capacity for Core BIC VIPP are defined as: Infrastructure, Evaluation, Strategies, Collaboration, and Surveillance. States funded with the expanded components MVP and SQI are anticipated to be building increased capacity for motor vehicle-related policy strategies and surveillance, respectively. States funded through the RNL expanded component are anticipated to be facilitators of knowledge-sharing in order to support building VIP infrastructure for Core-funded and non-Core-funded states in their regions. The evidence-informed strategies that states implement as part of Core VIPP are anticipated to lead to health impact.

CDC requests OMB approval to continue to collect Core VIPP program evaluation data for an additional three-year period. The purpose of the evaluation is to track states' progress toward: (1) Achieving the Performance Measures identified in the Funding Opportunity Announcement (FOA); (2) Building and/or sustaining their VIP capacity; and (3) Achieving their focus area SMART (Specific, Measurable, Attainable, Reasonable, and Time-bound) objectives. The ability of states to make progress towards their SMART objectives will serve as a measure of Core VIPP's impact on the burden of violence and injury related morbidity and mortality in funded states.

The primary data collections methods will be used in the evaluation include: (1) Interim and Annual Progress Reports, (2) State of the States (SOTS) online surveys, (3) Interviews, and (4) Online surveys related to the Regional Network Leader component. The progress reports will track states' performance measures and the activities stated in the Core VIPP FOA and monitor states' progress toward their focus area SMART objectives; the SOTS surveys will be used to measure grantees' changes in VIP capacity. Interviews will be used to provide more in-depth information about the key facilitators and barriers states have encountered while implementing BIC and the expanded components. The interviews also provide states the opportunity to share more specific information about their experiences implementing BIC. The online surveys for RNL will be delivered through the Regional Network Leaders to assess the strength and effectiveness of regional networks to connect states to each other for peer-to-peer knowledge and information sharing.

This is a mixed method evaluation, and data will be collected using a variety of methods to answer the evaluation questions. Qualitative and quantitative data will be collected through progress reports, surveys, the health impact tracking tool, and interviews. Quantitative data will be analyzed using descriptive statistics. Qualitative data will be collected through interviews, which will be transcribed and analyzed to identify common themes that emerge.

The table below details the annualized number of respondents, the average response burden per interview, and the total response burden for the surveys and telephone interviews. Estimates of burden for the survey are based on previous experience with evaluation data collections conducted by the evaluation staff. For the Base Integration Component (BIC), the State of the States (SOTS) web-based survey assessment will be completed by 20 Core Funded State Health Departments (SHDs) and will take 3 hours to complete. The SOTS Financial Module will also be completed by the 20 BIC funded SHD and will take 1 hour to complete. The supplemental SOTS Survey Questions will be completed by 20 BIC funded SHDs and take 1.5 hours to complete. The BIC telephone interviews will take 1.5 hours and will be completed by the 20 Core funded SHDs. We expect that each of the 20 BIC funded SHDs will complete three web-based surveys and three telephone interviews annually during the last three years of Core funding.

The annual surveys and interviews for the subcomponents (SQI, RNL, and MVP) are also detailed below. The Regional Network Leader (RNL) surveys will be completed by the five RNL funded SHDs and will take 1 hour to complete. The five RNL funded SHDs will also complete a telephone interview that will take 1 hour to complete. The four Surveillance Quality Improvement (SQI) funded SHDs will complete a telephone interview that will take 1 hour to complete. The four Motor Vehicle Child Injury Prevention Policy (MVP) SHDs will complete a telephone interview that will take 1 hour to complete.

There are no costs to respondents other than their time.

Estimated Annualized Burden Hours
Type of respondents | Form name | No. of respondents | No. of responses per respondent | Avg. burden per response (in hrs.) | Total burden (in hrs.)
Core VIPP Funded SHD Injury Program director | State of the States Survey (SOTS)—Attachment C | 20 | 1 | 3 | 60
Core VIPP Funded SHD Injury Program director | SOTS Financial Module—Attachment E | 20 | 1 | 1 | 20
Core VIPP Funded SHD Injury Program management and staff | Supplemental SOTS Survey Questions—Attachment F | 20 | 1 | 1.5 | 30
Core VIPP Funded SHD Injury Program management and staff | BIC Telephone Interview—Attachment D | 20 | 1 | 1.5 | 30
RNL awardees | RNL Telephone Interview—Attachment G | 5 | 1 | 1 | 5
RNL awardees | RNL Surveys—Attachment H & I | 5 | 1 | 2 | 10
SQI awardees | SQI Telephone Interview—Attachment G | 4 | 1 | 1 | 4
MVP awardees | MVP Telephone Interview—Attachment D | 4 | 1 | 1 | 4
Total |  |  |  |  | 163

Leroy A. Richardson,
Chief, Information Collection Review Office, Office of Scientific Integrity, Office of the Associate Director for Science, Office of the Director, Centers for Disease Control and Prevention.

[FR Doc. 2013-19271 Filed 8-8-13; 8:45 am]

BILLING CODE 4163-18-P